FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 012139-001.

Title: OVSA/MSC Space Charter Agreement.

Parties: Hamburg-Sud, MSC Mediterranean Shipping Company S.A., CMA CGM, S.A./ANL Singapore Pte Ltd., and Hapag-Lloyd AG.

Filing Parties: Wayne R. Rohde, Esq.; Cozen O'Connor; 1627 I Street NW.; Suite 1100; Washington, DC 20006-4007.

Synopsis: The Amendment removes Maersk as a party to the Agreement.

Agreement No.: 012223.

Title: Assessment Agreement of Carrier Members of United States Maritime Alliance, Ltd.

Parties: APL, Ltd.; Atlantic Container Line; China Shipping (North America) Holding Co., Ltd.; CMA CGM Group; CCNI; Columbia Coastal Transport; COSCO Container Lines Americas, Inc.; CSAV Group North America; Evergreen Shipping Agency (America) Corp.; Hamburg Sud North America, Inc.; Hanjin Shipping Company, Ltd.; Hapag-Lloyd (America), Inc; Horizon Lines, LLC; Hyundai Merchant Marine (America), Inc.; “K” Line America; Maersk Agency USA, Inc.; Mediterranean Shipping Company, USA Inc.; MOL (America) Inc.; NYK Line (North America), Inc; OOCL (USA), Inc.; Turkon America, Inc.; United Arab Shipping Company; Wallenius Wilhelmsen Logistics Americas, LLC; Yang Ming (America) Corp.; and Zim American Integrated Shipping Services Company, Inc.

Filing Party: William M. Spelman; The Lambos Firm, LLP; 303 South Broadway, Suite 410; Tarrytown, NY 10591.

Synopsis: The Agreement establishes the assessment formula for the funding of obligations by the carriers arising under the 2012-2018 USMX-ILA Master Contract that establishes the terms and conditions for longshore employees working on the Atlantic and Gulf Coasts of the United States.

Dated: September 6, 2013.
By Order of the Federal Maritime Commission.
Karen V. Gregory,
Secretary.

[FR Doc. 2013-22142 Filed 9-10-13; 8:45 am]

BILLING CODE 6730-01-P